DEPARTMENT OF COMMERCE

International Trade Administration

North American Free Trade Agreement (NAFTA), Article 1904; Binational Panel Review: Notice of Completion of Panel Review

AGENCY: United States Section, NAFTA Secretariat, International Trade Administration, Department of Commerce.

ACTION: Notice of completion of Panel Review.

SUMMARY: In accordance with the NAFTA Rules of Procedure for Article 1904 Binational Panel Reviews, the Panel Review of Ammonium Sulphate from the United States of America (Secretariat File Number: MEX-USA-2015-1904-01) was completed and the panelists were discharged from their duties effective September 1, 2022.

FOR FURTHER INFORMATION CONTACT: Vidya Desai, United States Secretary, NAFTA Secretariat, Room 2061, 1401 Constitution Avenue NW, Washington, DC 20230, 202-482-5438.

SUPPLEMENTARY INFORMATION: Article 1904 of NAFTA provides a dispute settlement mechanism for binational panel reviews of trade remedy determinations issued by the Government of the United States, the Government of Canada, and the Government of Mexico. On July 19, 2022, the NAFTA Binational Panel issued an Order affirming the Secretaria de Economia's Fourth Determination on Remand. Accordingly, the Notice of Completion of Panel Review is being issued pursuant to Rule 78 of the NAFTA Rules of Procedure for Article 1904 Binational Panel Reviews. For the complete NAFTA Rules of Procedure for Article 1904 Binational Panel Reviews, please see https://can-mex-usa-sec.org/secretariat/agreement-accord-acuerdo/nafta-alena-tlcan/rules-regles-reglas/index.aspx?lang=eng.

Dated: September 1, 2022.
Vidya Desai,
U.S. Secretary, NAFTA Secretariat.

[FR Doc. 2022-19237 Filed 9-6-22; 8:45 am]

BILLING CODE 3510-GT-P